DEPARTMENT OF THE INTERIOR

Bureau of Land Management

[LLAK910000-L13100000.PP0000-L.X.SS.052L0000]

Notice of Public Meeting, BLM—Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council (RAC) will meet as indicated below.

DATES: The meeting will be held April 6-7, 2010, in the Campbell Tract Facility at 4700 BLM Road, Anchorage, Alaska 99507. On April 6, the meeting starts at 1 p.m in the training room. On April 7, the meeting begins in the same location at 9 a.m. and the council will accept public comment from 1-2 p.m.

FOR FURTHER INFORMATION CONTACT: Ruth McCoard, RAC Coordinator; BLM-Alaska State Office; 222 W. 7th Avenue, #13; Anchorage, AK 99513. Telephone 907-271-4418 or e-mail ruth_mccoard@blm.gov.

SUPPLEMENTARY INFORMATION: The 15-member Council advises the Secretary of the Interior, through the Bureau of Land Management, on a variety of planning and management issues associated with public land management in Alaska. At this meeting, topics planned for discussion include:

• Election of Chair and Vice-Chair.

• Manager reports.

• Stimulus projects update.

• Alaska Land Information System.

• National Landscape Conservation System anniversary.

• Resource management planning.

• Other topics of interest to the RAC.

All meetings are open to the public. Depending on the number of people wishing to comment and time available, the time for individual oral comments may be limited, so be prepared to submit written comments if necessary. Before including your address, phone number, e-mail address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact the BLM RAC Coordinator listed above.

Dated: February 19, 2010.
Thomas P. Lonnie,
State Director.

[FR Doc. 2010-4115 Filed 2-26-10; 8:45 am]

BILLING CODE 4310-JA-P